FARM CREDIT ADMINISTRATION

12 CFR Part 618

RIN 3052-AC66

General Provisions; Operating and Strategic Business Planning; Effective Date

AGENCY: Farm Credit Administration.

ACTION: Notice of effective date.

SUMMARY: The Farm Credit Administration (FCA or Agency), through the FCA Board (Board), issued a final rule under part 618 on May 1, 2012 (77 FR 25577) amending our regulations to require the board of directors of each Farm Credit System institution to adopt an operational and strategic business plan to include, among other things, outreach toward diversity and inclusion. In accordance with 12 U.S.C. 2252, the effective date of the final rule is 30 days from the date of publication in the Federal Register during which either or both Houses of Congress are in session. Based on the records of the sessions of Congress, the effective date of the regulations is June 18, 2012.

DATES: Effective Date: Under the authority of 12 U.S.C. 2252, the regulation amending 12 CFR part 618 published on May 1, 2011 (77 FR 25577) is effective June 18, 2012.

FOR FURTHER INFORMATION CONTACT: Jacqueline R. Melvin, Policy Analyst, Office of Regulatory Policy, Farm Credit Administration, McLean, Virginia 22102-5090, (703) 883-4498, TTY (703) 883-4434, or Jennifer A. Cohn, Senior Counsel, Office of General Counsel, Farm Credit Administration, McLean, Virginia 22102-5090, (703) 883-4020, TTY (703) 883-4020.

(12 U.S.C. 2252(a)(9) and (10))

Dated: June 18, 2012.
Dale L. Aultman,
Secretary, Farm Credit Administration Board.

[FR Doc. 2012-15197 Filed 6-20-12; 8:45 am]

BILLING CODE 6705-01-P